DEPARTMENT OF COMMERCE

International Trade Administration

A-485-806

Notice of Extension of Time Limit for the Preliminary Results of Antidumping Duty Administrative Review: Certain Hot- Rolled Carbon Steel Flat Products from Romania

AGENCY: Import Administration, International Trade Administration, Department of Commerce.

SUMMARY: The Department of Commerce is extending the time limit for completion of the preliminary results of the administrative review of the antidumping duty order on certain hot-rolled carbon steel flat products from Romania until November 30, 2005. The period of review is November 1, 2003, through October 31, 2004.

EFFECTIVE DATE: July 13, 2005.

FOR FURTHER INFORMATION CONTACT: Dunyako Ahmadu or Dave Dirstine, Import Administration, International Trade Administration, U.S. Department of Commerce, 14th Street and Constitution Avenue, NW, Washington, DC 20230; telephone (202) 482-0198 and (202) 482-4033, respectively.

SUPPLEMENTARY INFORMATION:

Background

On December 27, 2004, the Department of Commerce (the Department) published a notice of initiation of the 2003-2004 antidumping duty administrative review of this order covering S.C. Ispat Sidex S.A, Sidex Trading S.r.l., and Metalexportimport, S.A. See Notice of Initiation of Antidumping and Countervailing Duty Administrative Reviews and Request for Revocation in Part, 69 FR 77181 (December 27, 2004).

Extension of Time Limit for Preliminary Results

The Tariff Act of 1930, as amended (the Act), provides at section 751(a)(3)(A) that the Department will issue the preliminary results of an administrative review of an antidumping duty order within 245 days after the last day of the anniversary month of the date of publication of the order. The Act provides further that, if the Department determines that it is not practicable to complete the review within this time period, the Department may extend the 245-day period to 365 days.

The Department has determined that it is not practicable to complete the preliminary results by the current deadline of August 2, 2005, because it received a request for an expedited changed-circumstances review for this order on March 24, 2005, followed by a request to conduct a sales-below-cost investigation on March 31, 2005. Following our initiation of a cost investigation, we requested that Ispat Sidex respond to a cost-of-production questionnaire and respond to supplemental questions regarding its home-market and U.S. questionnaire response.

This review presents new and complex issues for the Department to consider as a result of Romania's change in status from a non-market economy to a market economy on January 1, 2003 (see Certain Small Diameter Carbon and Alloy Seamless Standard, Line, and Pressure Pipe From Romania: Final Results of Antidumping Duty Administrative Review, 68 FR 12672 (March 17, 2003). Further, additional time is necessary to conduct a verification of Ispat Sidex's questionnaire responses.

Therefore, in accordance with section 751(a)(3)(A) of the Act and 19 CFR 351.213(h)(2), the Department is extending the time limit for the preliminary results by 120 days to November 30, 2005.

We are issuing this notice in accordance with section 751(a)(3)(A) of the Act.

Dated: July 7, 2005.
Susan Kuhbach,
Acting Deputy Assistant Secretary for Import Administration.

[FR Doc. E5-3714 Filed 7-12-05; 8:45 am]

BILLING CODE 3510-DS-S